DEPARTMENT OF THE INTERIOR

Bureau of Land Management

[NM-060-1610-DO]

Notice of Intent To Prepare a Resource Management Plan Amendment (RMPA) and Associated Environmental Impact Statement (EIS)

AGENCY: Bureau of Land Management (BLM), Interior.

ACTION: Notice of Intent to prepare a Special Status Species RMPA and EIS for the Carlsbad and Roswell Field Offices, New Mexico.

SUMMARY: This document provides notice that the BLM intends to prepare a RMPA with an associated EIS for the Carlsbad and Roswell Field Offices. This RMPA will amend two RMPs: Carlsbad 1988 (as amended) and Roswell 1997. The purpose of the amendment is to respond to changing resource conditions and respond to new issues in the context of habitat management for special status species on public lands in the planning area administered by the Field Offices.

DATES: This Notice initiates the public-scoping process. Comments on the scope of the plan, including issues or concerns that should be considered, should be submitted in writing to the address listed below within 45 days after the publication of this Notice. However, collaboration with the public will continue throughout the planning process. Dates and locations for public meetings will be announced through local news media, newsletters, and the BLM Web site (http://www.nm.blm.gov), at least 15 days prior to the event.

ADDRESSES: Please mail written comments to the BLM, Roswell Field Office, Attention: RMPA, 2909 West Second Street, Roswell, New Mexico 88201, or fax to (505) 627-0276. All public comments, including names and mailing addresses of respondents, will be available for public review at the Roswell Field Office during regular business hours (7:45 a.m. to 4:30 p.m.) Monday through Friday, except holidays, and may be published as part of the EIS. Individual respondents may request confidentiality. If you wish to withhold your name or street address from public review or from disclosure under the Freedom of Information Act, please state this prominently at the beginning of your written correspondence. The BLM will honor such requests to the extent allowed by law. All submissions from organizations and businesses, and from individuals identifying themselves as representatives or officials of organizations or businesses, will be available for public inspection in their entirety. The current RMPs and all other documents relevant to this planning process are available for public review at the Roswell Field Office (see address above).

FOR FURTHER INFORMATION CONTACT: For further information or to have your name added to the Special Status Species RMPA Mailing List, contact Howard Parman, Planning Team Leader, at the Roswell Field Office (see address above), telephone number (505) 627-0272.

SUPPLEMENTARY INFORMATION: The planning area for the RMPA, which includes 847,491 acres of BLM-administered public lands, is located entirely in southeast New Mexico in Chaves, Eddy, Lea, and Roosevelt Counties. A map of the planning area is available on the web site (see address above). The planning area includes all surface and subsurface (mineral estate) lands managed by BLM within the planning area.

The BLM-administered public lands within the planning area are currently managed under interim management guidelines issued on August 5, 2004. Interim management is in accordance with the decisions in the 1988 Carlsbad RMP, as amended, and the 1997 Roswell RMP. BLM will continue to manage these lands in accordance with the interim management guidelines until the RMPA is completed and a Record of Decision is signed.

Preparation of a RMPA for the Carlsbad and Roswell Field Offices is necessary to respond to changing resource conditions and respond to new issues in the context of habitat management for special status species on public lands in the planning area administered by the Field Offices. The RMPA will establish new land-use planning decisions to address issues identified through public scoping and, where appropriate, will incorporate decisions from the existing RMPs.

The BLM will work collaboratively with interested parties to identify the management decisions that are best suited to local, regional, and National interests. The public scoping process will help identify planning issues and provide for public comment on the proposed planning criteria. BLM has identified the following preliminary issues:

• Integrating wildlife habitat management with livestock grazing management.

• Minimizing surface disturbance associated with energy development.

• Utilizing existing rights-of-way corridors for energy distribution;

• Developing route designations to manage access, travel, and off-highway vehicles to protect wildlife habitat.

• Proposing land tenure and ownership adjustments for greater management efficiency;

• Regional coordination with state and local agencies for more effective management in the planning area.

• These preliminary issues are not final and may be refined or additional issues may be added through public participation.

BLM has also identified some preliminary planning criteria to guide development of the plan, to avoid unnecessary data collection and analysis, and to ensure the plan is tailored to the issues. These criteria may be modified or other criteria identified during the public-scoping process. The public is invited to comment on the following preliminary planning criteria:

• Actions must comply with laws, regulations, executive orders, and BLM Manuals (i.e., supplemental program guidance).

• Actions must be reasonable and achievable and allow for flexibility where appropriate (i.e., adaptive management will be incorporated into the RMPA).

• The Economic Profile System (EPS) developed by the Sonoran Institute will be used as a community involvement strategy and a source of demographic and economic data for the planning process. EPS will provide a foundation of current social and economic conditions in the Planning Area. Following this, as planning alternatives are developed, a social and economic analysis and environmental justice assessment will be conducted to determine the effect that each alternative will have on users and the diverse population in the Planning Area. The analysis will consider the short- and long-term social and economic benefits associated with possible alternatives. The lifestyles, issues, and needs of area residents will be taken into consideration. Other important factors to be considered will be the needs and long-term plans of local city, county, and Tribal governments. Short-term consequences will be weighed against long-term benefits as necessary. The impacts on both the general population and affected subgroups within the planning area will be determined.

• Actions will be considered using an interdisciplinary approach.

• The Roswell/Carlsbad RMPA planning team will work cooperatively with county and municipal governments, other Federal, State and local agencies, and interested groups and individuals. A process of collaborative public involvement and participation will be carried out throughout this process.

• The RMPA will change or modify the guidance upon which the Field Offices will manage public lands within the planning area.

• The planning process will include an EIS that complies with National Environmental Policy Act standards.

• The RMPA will protect and enhance the biodiversity of the planning area, while allowing the public the opportunity for access to public lands in a productive and meaningful way.

• The RMPA will recognize valid existing rights related to the use of public lands. The RMPA will define the process that BLM will use to address applications or notices filed after the completion of the RMPA on existing land-use authorizations.

• The RMPA process will involve Native American Tribal governments and will provide strategies for protection of cultural resources and traditional cultural properties on public lands.

• Decisions in the RMPA will strive to be compatible with existing plans and policies of adjacent local, State, and Federal Governments and agencies, as long as the decisions are in conformance with BLM-management policies.

• The RMPA will comply with all legal mandates of the Federal Land Policy and Management Act of 1976, the National Environmental Policy Act of 1969, the Federal Advisory Committee Act, the Administrative Procedures Act, and the BLM planning regulations in 43 CFR part 1600.

The collaborative process will allow the public, Tribes, State and Federal agencies, local elected officials, and BLM specialists to participate in identifying issues and developing and analyzing alternatives. BLM has asked the New Mexico State Land Office; the New Mexico Department of Game and Fish; and Chaves, Eddy, Lea, and Roosevelt Counties to serve as cooperating agencies during the planning process.

Dated: September 28, 2004.
Jesse J. Juen,
Acting New Mexico State Director.

[FR Doc. 04-25617 Filed 11-17-04; 8:45 am]

BILLING CODE 4310-GG-P